DEPARTMENT OF AGRICULTURE

Animal and Plant Health Inspection Service

[Docket No. APHIS-2024-0023]

Notice of Request for Approval of an Information Collection; APHIS National Incident Management System (NIMS) Training and Exercise Program

AGENCY: Animal and Plant Health Inspection Service, USDA.

ACTION: New information collection; comment request.

SUMMARY: In accordance with the Paperwork Reduction Act of 1995, this notice announces the Animal and Plant Health Inspection Service's (APHIS') intention to request approval of a new information collection associated with the APHIS National Incident Management System Training and Exercise Program that provides Federal Emergency Management Agency-related training to respondents responding to plant, pest, and animal disease outbreaks.

DATES: We will consider all comments that we receive on or before August 16, 2024.

ADDRESSES: You may submit comments by either of the following methods:

• Federal eRulemaking Portal: Go to http://www.regulations.gov. Enter APHIS-2024-0023 in the Search field. Select the Documents tab, then select the Comment button in the list of documents.

• Postal Mail/Commercial Delivery: Send your comment to Docket No. APHIS-2024-0023, Regulatory Analysis and Development, PPD, APHIS, Station 3A-03.8, 4700 River Road, Unit 118, Riverdale, MD 20737-1238.

Supporting documents and any comments we receive on this docket may be viewed at http://www.regulations.gov or in our reading room, which is in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the APHIS National Incident Management System Training and Exercise Program, contact Mr. Joshua Lochte, Supervisory Emergency Management Specialist, Emergency and Regulatory Compliance Services, APHIS, 4700 River Road, Riverdale, MD 20737; phone (240) 723-0872; email: joshua.l.lochte@usda.gov. For more detailed information on the information collection process, contact Mr. Joseph Moxey, APHIS' Paperwork Reduction Act Coordinator, at (301) 851-2533; email: joseph.moxey@usda.gov.

SUPPLEMENTARY INFORMATION:

Title: APHIS National Incident Management System (NIMS) Training and Exercise Program.

OMB Control Number: 0579-XXXX.

Type of Request: Approval of a new information collection.

Abstract: Under the Animal and Plant Health Inspection Service (APHIS) Directive 1810.2, APHIS National Incident Management System (NIMS) Training and Exercise Program, APHIS is assuming responsibility for providing to APHIS employees certain Federal Emergency Management Agency (FEMA)-related training. The training consists of courses such as Introduction to the Incident Command System (ICS), ICS for Initial Response, ICS for Expanding Incidents, and advanced training to employees who require advanced knowledge of ICS. Additional training includes an overview of NIMS and the National Response Framework focusing especially on those who are involved in delivering and applying the response core capabilities. The training will also provide introduction and overview of ICS for senior officials (executives, elected and appointed officials, city/county managers, agency administrators, etc.). Seats not filled by APHIS employees will be made available to State, local and Tribal government employees.

Information that will be collected from participants includes an application email, a course evaluation sheet, and an affidavit on a course roster confirming attendance.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.125 hours per response.

Respondents: State, local and Tribal government employees who respond to plant pest/disease and animal disease outbreaks.

Estimated annual number of respondents: 300.

Estimated annual number of responses per respondent: 2.

Estimated annual number of responses: 600.

Estimated total annual burden on respondents: 75 hours. (Due to averaging, the total annual burden hours may not equal the product of the annual number of responses multiplied by the reporting burden per response.)

All responses to this notice will be summarized and included in the request for OMB approval. All comments will also become a matter of public record.

Done in Washington, DC, this 10th day of June 2024.
Michael Watson,
Administrator, Animal and Plant Health Inspection Service.

[FR Doc. 2024-13202 Filed 6-14-24; 8:45 am]

BILLING CODE 3410-34-P